DEPARTMENT OF JUSTICE

[OMB Number 1140-0080]

Agency Information Collection Activities; Proposed eCollection eComments Requested; Application for an Amended Federal Explosives License or Permit

AGENCY: Bureau of Alcohol, Tobacco, Firearms and Explosives, Department of Justice.

ACTION: 30-Day notice.

SUMMARY: The Bureau of Alcohol, Tobacco, Firearms and Explosives, Department of Justice (DOJ), will be submitting the following information collection request to the Office of Management and Budget (OMB) for review and approval in accordance with the Paperwork Reduction Act of 1995. The proposed information collection was previously published in the Federal Register, on October 17, 2023, allowing a 60-day comment period.

DATES: Comments are encouraged and will be accepted for 30 days until January 22, 2024.

FOR FURTHER INFORMATION CONTACT: If you have comments especially on the estimated public burden or associated response time, suggestions, or need a copy of the proposed information collection instrument with instructions or additional information, please contact: Shawn Stevens by email at Shawnstevens@atf.gov, or telephone at 304-616-4421.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0080. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Notification of Change of Mailing or Premise Address.

3. Agency form number, if any, and the applicable component of the Department of Justice sponsoring the collection: ATF F 5400.33.

Component: Bureau of Alcohol, Tobacco, Firearms and Explosives, U.S. Department of Justice.

4. Affected public who will be asked or required to respond, as well as a brief abstract: Affected Public: Private Sector—Business or other for-profit institutions, individuals or households.

Abstract: During the term of a license or permit, a licensee or permittee may move his business or operations to a new address where he intends to regularly carry on his business or operations, without procuring a new license or permit. However, in every case, the licensee or permittee shall notify the Chief, Federal Explosives Licensing Center of the business or operations address change. The Information Collection (IC) OMB 1140-0080 is being revised to incorporate a new form (Application for an Amended Federal Explosives License or Permit (ATF Form 5400.33)). ATF Form 5400.33 will be the application used by the licensee or permittee to change the business address of a license or permit and certify compliance with the provisions of the law for the new address. Previously this information did not use a form to be collected.

5. Obligation to Respond: Mandatory under the provisions of title 18 U.S.C. 842(f) and 27 CFR 555.54.

6. Total Estimated Number of Respondents: 1,000 respondents.

7. Estimated Time per Respondent: 10 minutes.

8. Frequency: Once annually.

9. Total Estimated Annual Time Burden: 170 hours.

10. Total Estimated Annual Other Costs Burden: There is no annualized capital/startup cost associated with this collection. It is estimated that half of the respondents submit the form to the Federal Explosives Licensing Center by mail. Therefore, the annual cost is $330.00 (500 × .66) 2023 postage rate.

If additional information is required, contact: Darwin Arceo, Department Clearance Officer, Policy and Planning Staff, Justice Management Division, United States Department of Justice, Two Constitution Square, 145 N Street NE, 4W-218, Washington, DC 20530.

Dated: December 19, 2023.
Darwin Arceo,
Department Clearance Officer for PRA, U.S. Department of Justice.

[FR Doc. 2023-28285 Filed 12-21-23; 8:45 am]

BILLING CODE 4410-FY-P